DEPARTMENT OF HOMELAND SECURITY

U.S. Citizenship and Immigration Services

[OMB Control No. 1615-0040]

Agency Information Collection Activities: Application for Employment Authorization, Form I-765, Revision of a Currently Approved Information Collection; Emergency Submission to the Office of Management and Budget; Comment Request

ACTION: 30-Day Notice of Information Collection Under Review: Application for Employment Authorization.

The Department of Homeland Security (DHS), U.S. Citizenship and Immigration Services (USCIS), submitted the following emergency information collection request, utilizing emergency review procedures, to the Office of Management and Budget (OMB) for review and clearance in accordance with the Paperwork Reduction Act of 1995 (Pub. L. 104-13, 44 U.S.C. 35). The purpose of this notice is to allow 30 days for public comments. Comments are encouraged and will be accepted for 30 days until September 17, 2012. This process is conducted in accordance with 5 CFR 1320.10 and 5 CFR 1320.13.

Written comments and/or suggestions regarding the item(s) contained in this notice, especially regarding the estimated public burden and associated response time, should be directed to DHS, and to the Office of Information and Regulatory Affairs, OMB, USCIS Desk Officer. Comments may be submitted to: USCIS, Chief, Regulatory Coordination Division, Office of Policy and Strategy, 20 Massachusetts Avenue NW., Washington, DC 20529-2020. Comments may also be submitted to DHS via email at USCISFRComment@dhs.gov or via the Federal eRulemaking Portal at www.Regulations.gov under e-Docket ID number USCIS-2005-0035, and to the OMB USCIS Desk Officer via facsimile at 202-395-5806 or via email at oira_submission@omb.eop.gov. All submissions received must include the agency name and e-Docket ID. When submitting comments by email please make sure to add OMB Control No. 1615-0040 in the subject box.

Regardless of the method used for submitting comments or material, all submissions will be posted, without change, to the Federal eRulemaking Portal at http://www.Regulations.gov, and will include any personal information you provide. Therefore, submitting this information makes it public. You may wish to consider limiting the amount of personal information that you provide in any voluntary submission you make to DHS. DHS may withhold information provided in comments for public viewing that it determines may impact the privacy of an individual or is offensive. For additional information please read the Privacy Act notice that is available via the link in the footer of http://www.Regulations.gov.

Note: The address listed in this notice should only be used to submit comments concerning this information collection. Please do not submit requests for individual case status inquiries to this address. If you are seeking information about the status of your individual case, please check “My Case Status” online at https://egov.uscis.gov/cris/Dashboard.do, or call the USCIS National Customer Service Center at 1-800-375-5283.

Written comments and suggestions from the public and affected agencies should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of This Information Collection

(1) Type of Information Collection: Revision of the currently approved information collection.

(2) Title of the Form/Collection: Application for Employment Authorization.

(3) Agency form number, if any, and the applicable component of the Department of Homeland Security sponsoring the collection: Form I-765, USCIS.

(4) Affected public who will be asked or required to respond, as well as a brief abstract: Primary: Individuals or households. The information collected on this form is used by USCIS to determine eligibility for the issuance of the employment authorization document.

(5) An estimate of the total number of respondents and the amount of time estimated for an average respondent to respond: 1,761,300 responses related to Form I-765 at 3.42 hours per response; 1,385,292 responses related to Biometrics at 1.17 hours; 1,047,357 responses related to Form I-765WS at .50 hours; and 1,761,300 responses related to Passport-Style Photographs at .50 hours per response.

(6) An estimate of the total public burden (in hours) associated with the collection: 9,048,767 annual burden hours.

If you need a copy of the information collection instrument, please visit the Federal eRulemaking Portal at http://www.Regulations.gov.

We may also be contacted at USCIS, Regulatory Coordination Division, Office of Policy and Strategy, 20 Massachusetts Avenue NW., Washington, DC 20529, telephone number 202-272-1470.

Dated: August 14, 2012.
Laura Dawkins,
Chief, Regulatory Coordination Division, Office of Policy and Strategy, U.S. Citizenship and Immigration Services, Department of Homeland Security.

[FR Doc. 2012-20251 Filed 8-14-12; 4:15 pm]

BILLING CODE 9111-97-P